DEPARTMENT OF DEFENSE

Office of the Secretary

Federal Advisory Committee; Department of Defense Task Force on the Care, Management, and Transition of Recovering Wounded, Ill, and Injured Member of the Armed Forces

AGENCY: Department of Defense (DoD).

ACTION: Establishment of Federal advisory committee.

SUMMARY: Under the provisions of section 724 of Public Law 111-84, the Federal Advisory Committee Act of 1972, (5 U.S.C. Appendix), the Government in the Sunshine Act of 1976 (5 U.S.C. 552b), and 41 CFR 102-3.50, the Department of Defense gives notice that it is establishing the charter for the Department of Defense Task Force on the Care, Management, and Transition of Recovering Wounded, Ill, and Injured Member of the Armed Forces (hereafter referred to as “the Task Force”).

FOR FURTHER INFORMATION CONTACT: Jim Freeman, Deputy Committee Management Officer for the Department of Defense, 703-601-6128.

SUPPLEMENTARY INFORMATION: The Task Force is a non-discretionary Federal advisory committee established to (a) access the effectiveness of the policies and programs developed and implemented by the Department of Defense, and by each of the Military Departments to assist and support the care, management, and transition of recovering wounded, ill, and injured members of the Armed Forces; and (b) make recommendations for the continuous improvements of such policies and programs.

The Task Force, pursuant to section 724(c) of public Law 111-84, shall no later than 12 months after the date on which all Task Force members have been appointed, and each year thereafter for the life of the Task Force, shall submit a report to the Secretary of Defense.

The Task Force shall submit to the Secretary of Defense a report on the activities of the Task Force, and on the activities of the Department of Defense, to include the Military Departments, to assist and support the care, management, and transition of recovering wounded, ill, and injured members of the Armed Forces. At a minimum, the Task Force's report shall include the following:

a. The Task Force's findings and conclusions as a result of its assessment of the effectiveness of developed and implemented DoD policies and programs, to include those by each of the Military Departments, to assist and support the care, Management, and transition of recovering wounded, ill, and injured members of the Armed Forces.

b. A description of best practices and various ways in which the Department of Defense, to include the Military Departments, could more effectively address matters relating to the care, management, and transition of recovering wounded, ill, and injured members of the Armed Forces, including members of the Regular and Reserve Components, and support for their families.

c. A plan listing and describing the Task Force's activities for the upcoming year covered by the report.

d. Such recommendations for other legislative or administrative action that the Task Force considers appropriate for measures to improve DoD-wide policies and programs in (a) above, which assist and support the care, management and transition of recovering wounded, ill, and injured members of the Armed Forces.

The Task Force, for the purposes of its reports, shall fully comply with sections 724(c)(2) and (3) of Public Law 111-84 in all matters dealing with the reports; (a) methodology; and (b) matters to be reviewed and assessed.

No later than 90 days after receiving the Task Force's annual report, the Secretary of Defense shall submit to the Committees on Armed Services of the Senate and the House of Representatives the report and the Secretary's evaluation of the report.

No later than six months after receiving the Task Force's annual report, the Secretary of Defense, in consultation with the Secretaries of the Military Departments, shall submit to the Committees on Armed Services of the Senate and the House of Representatives a plan to implement the recommendations of the Task Force's annual report.

The Task Force, pursuant to section 724(b) of Public Law 111-84, shall be comprised of not more than 14 members appointed by the Secretary of Defense.

Pursuant to 724(b)(2) of Public Law 111-84, the Secretary of Defense shall appoint:

a. At least one member of each of the Regular Components of the Army, the Navy, the Air Force and the Marine Corps;

b. One member of the National Guard;

c. One member of a Reserve Component of the Armed Forces other than the National Guard;

d. At least one family member of a wounded, ill, or injured member of the Armed Forces or veteran who has experience working with wounded, ill, and injured members of the Armed Forces or their families; and

e. A number of person from outside the Department of Defense equal to the total number of personnel from within the Department of Defense (whether members of the Armed Forces or civilian personnel) who are appointed to the Task Force.

Sections 724(b)(2) through (4) of Public Law 111-84, further stipulate the following Task Force appointment requirements:

a. At least one individual appointed to the Task Force from within the Department of Defense shall be the Surgeon General of an Armed Force.

b. The individuals appointed to the Task Force from outside the Department of Defense—

i. With the concurrence of the Secretary of Veterans Affairs, shall include an officer or employee of the Department of Veterans Affairs; and

ii. May include individuals from other departments or agencies of the Federal Government, from State and local agencies, or from the private sector.

c. Persons appointed to the Task Force shall have experience in—

i. Medical care and coordination for wounded, ill, and injured members of the Armed Forces;

ii. Medical case management;

iii. Non-medical case management;

iv. The disability evaluation process for members of the Armed Forces;

v. Veterans benefits;

vi. Treatment of traumatic brain injury and post-traumatic stress disorder;

vii. Family support;

viii. Medical research;

ix. Vocational rehabilitation; or

x. Disability benefits.

There shall be two co-chairs of the Task Force. One of the co-chairs shall be designated by the Secretary of Defense at the time of appointment from among the individuals appointed to the Task Force from within the Department of Defense. The other co-chair shall be selected from among the individuals appointed from outside the Department of Defense by those individuals.

Pursuant to sections 724(e)(1) of Public Law 111-84, Task Force members who are members of the Armed Forces or a civilian officer or employee of the United States shall serve on the Task Force without compensation (other than compensation to which entitled as a member of the Armed Forces or an officer or employee of the United States, as the case may be).

Other Task Force members shall be appointed under the provisions of 5 U.S.C. 316, and shall serve as special government employees. In addition, these special government employees shall serve with compensation under the provisions of 5 U.S.C. 3161.

All Task Force members shall receive travel and per diem when traveling on official Task Force business.

With DoD approval, the Task Force is authorized to establish subcommittees, as necessary and consistent with its mission. These subcommittees or working groups shall operate under the provisions of the Federal Advisory Committee Act of 1972, the Government in the Sunshine Act of 1978 (5 U.S.C. 552b), and other governing Federal regulations.

Such subcommittees or workgroups shall not work independently of the chartered Task Force, and shall report all their recommendation and advice to the Task Force for full deliberation and discussion. Subcommittees or workgroups have no authority to make decisions on behalf of the chartered Task Force; nor can they report directly to the Department of Defense or any Federal officers or employees who are no Task Force members.

Subcommittee members, who are not Task Force members, shall be appointed in the same manner as Task Force members.

The Task Force shall meet at the call of the Designated Federal Officer, in consultation with the co-chairs. The estimated number of Task Force meetings is five per year.

The Designated Federal Officer, pursuant to DoD policy, shall be a full-time or permanent part-time DoD employee, and shall be appointed in accordance with established DoD policies and procedures.

In addition, the Designated Federal Officer is required to be in attendance at all Task Force and subcommittee meetings; however, in the absence of the Designated Federal Officer, the Alternate Designated Federal Officer shall attend the meeting.

Pursuant to 41 CFR 102-3.105(j) and 102-3.140, the public or interested organizations may submit written statements to the Department of Defense Task Force on the Care, Management, and Transition of Recovering Wounded, Ill, and injured Member of the Armed Forces membership about the Task Force's mission and functions. Written statements may be submitted at any time or in response to the stated agenda of planned meeting of the Department of Defense Task Force on the Care, Management, and Transition of Recovering Wounded, Ill, and injured Member of the Armed Forces.

All written statements shall be submitted to the Designated Federal Officer for the Department of Defense Task Force on the Care, Management, and Transition of Recovering Wounded, Ill, and injured Member of the Armed Forces, and this individual will ensure that the written statements are provided to the membership for their consideration. Contact information for the Department of Defense Task Force on the Care, Management, and Transition of Recovering Wounded, Ill, and injured Member of the Armed Forces Designated Federal Officer can be obtained from the GSA's FACA Database— https://www.fido.gov/facadatabase/public.asp.

The Designated Federal Officer, pursuant to 41 CFR 102-3.150, will announce planned meetings of the Department of Defense Task Force on the Care, Management, and Transition of Recovering Wounded, Ill, and injured Member of the Armed Forces. The Designated Federal Officer, at that time, may provide additional guidance on the submission of written statements that are in response to the stated agenda for the planned meeting in question.

Dated: September 22, 2010.
Mitchell S. Bryman,
Alternate OSD Federal Register Liaison Officer, Department of Defense.

[FR Doc. 2010-24216 Filed 9-27-10; 8:45 am]

BILLING CODE 5001-06-P